FEDERAL MARITIME COMMISSION

Sunshine Act Meeting

AGENCY HOLDING THE MEETING: Federal Maritime Commission.

TIME AND DATE: July 13, 2011—10 a.m.

PLACE: 800 North Capitol Street, NW., First Floor Hearing Room, Washington, DC.

STATUS: Part of the meeting will be in Open Session and the remainder of the meeting will be in Closed Session.

Matters To Be Considered

Open Session

1. Update from Commissioner Cordero on the Congress of Latin American Ports and Peru Discussions.

2. Options for Passenger Vessel Financial Responsibility Requirements (Performance).

Closed Session

1. Discussion of Transpacific Stabilization Agreement and Westbound Transpacific Stabilization Agreement Transcript Filing Requirement.

2. Staff Briefing and Discussion of Proposed PierPass Traffic Mitigation Fee Increase.

3. Docket No. 09-08: SSA Terminals, LLC and SSA Terminals (Oakland), LLC v. The City of Oakland.

4. Staff Briefing and Discussion of the Reconstruction Proceedings and Chapter 15 Bankruptcy Petition of The Containership Company A/S.

CONTACT PERSON FOR MORE INFORMATION: Karen V. Gregory, Secretary, (202) 523-5725.

Karen V. Gregory,
Secretary.

[FR Doc. 2011-17348 Filed 7-6-11; 4:15 pm]

BILLING CODE 6730-01-P